DEPARTMENT OF JUSTICE

Drug Enforcement Administration

[Docket No. DEA-582]

Bulk Manufacturer of Controlled Substances Application: S&B Pharma, Inc.; Correction

ACTION: Notice of application; correction.

SUMMARY: The Drug Enforcement Administration (DEA) published a document in the Federal Register on November 22, 2019, concerning a notice of application. As that document correctly indicated, the applicant, S&B Pharma, Inc., DBA Norac Pharma, 405 South Motor Avenue, Azusa, California 91702-3232 applied to be registered as a bulk manufacturer of a number of controlled substances, to include applying for authorization in order to synthetically manufacture using drug code 7360 (marihuana). However, on the notice of application published, drug code 7360 was inadvertently identified and listed as Gamma Hydroxybutyric Acid instead of Marihuana.

SUPPLEMENTARY INFORMATION:

Correction

In the Federal Register of November 22, 2019, in FR Doc. 2019-25402 (84 FR 64563), on page 64564, correct the listing of drug code 7360 to be identified as Marihuana, as is shown below.

Controlled substance | Drug code | Schedule
Marihuana | 7360 | I

Dated: February 11, 2020.
William T. McDermott,
Assistant Administrator.

[FR Doc. 2020-04829 Filed 3-9-20; 8:45 am]

BILLING CODE 4410-09-P